DEPARTMENT OF COMMERCE

Census Bureau

Agency Information Collection Activities; Submission to the Office of Management and Budget (OMB) for Review and Approval; Comment Request; Management and Organizational Practices Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 29, 2021 during a 60-day comment period. This notice allows for an additional 30 days for public comments.

Agency: U.S. Census Bureau, Commerce.

Title: Management and Organizational Practices Survey.

OMB Control Number: 0607-0963.

Form Number(s): MP-10002.

Type of Request: Regular submission, Request for a Reinstatement, with Change, of a Previously Approved Collection.

Number of Respondents: 51,000.

Average Hours per Response: 45 minutes.

Burden Hours: 38,250.

Needs and Uses: The 2021 Management and Organizational Practices Survey (MOPS) will be conducted as a joint project by the Census Bureau, the University of Chicago Booth School of Business, Stanford School of Humanities and Sciences, and the Stanford Institute for Human-Centered Artificial Intelligence. The MOPS will utilize the Annual Survey of Manufactures (ASM) sample and collect information on management and organizational practices at the establishment level. Data obtained from the survey will allow the Census Bureau to estimate a firm's stock of management and organizational assets, specifically the use of establishment performance data, such as production targets in decision-making and the prevalence of decentralized decision rights. The results will provide information on investments in management and organizational practices thus providing a better understanding of the benefits from these investments when measured in terms of firm productivity or firm market value.

The MOPS has been conducted periodically since 2010 and provides a linkage to the Census Bureau's data sets on plant level outcomes. Since every establishment in the MOPS sample is also in the ASM, the results of MOPS 2015 were linked with certainty to annual performance data at the plant level, including outcomes on sales, shipments, payroll, employment, inventories, capital expenditure, and more for the period 2014-2018. There is no other source for the MOPS data collection.

Understanding the determinants of productivity growth is essential to understanding the dynamics of the U.S. economy. The MOPS provides information to assist in determining whether the large and persistent differences in productivity across establishments (even within the same industry) are partly driven by differences in management and organizational practices. In addition to increasing the understanding of the dynamics of the economy, MOPS data can provide insight to policymakers interested in productivity growth or other metrics of business performance into the current state of management and organizational practices in the U.S. manufacturing sector. This insight could inform economic forecasts or policies.

The MOPS provides information on differences in manufacturing management and organizational practices by region, industry, and firm size. These results can be used by U.S. manufacturing businesses to benchmark their own management and organizational practices relative to their peers and inform changes in those practices. The survey sponsors have used the published tables and methodology documentation to set up a self-scoring tool for benchmarking purposes. Similarly, interested businesses can use the published tables to examine how their implementation of specific practices compares to national rates of adoption or use published tables in conjunction with the methodology documentation to evaluate how their use of structured management practices compares to subsector, state, establishment size class, and establishment age class. Industry trade organizations may also wish to communicate this information to their members. For example, a printing industry publication communicated the results of the 2015 MOPS (https://whattheythink.com/data/85108-printing-industry-defined-managemen/), and economic development agencies in Wisconsin cited the state's ranking in the 2015 MOPS when announcing a program aimed at increasing manufacturing productivity in the state (https://biztimes.com/new-initiative-aimed-at-addressing-manufacturing-productivity/). Since the MOPS data are also connected with annual performance data, the MOPS results can directly aid policy discussions regarding what policymakers can do to assist U.S. manufacturing companies as they react to a changing economy.

The 2021 MOPS includes a new purchased services module on the establishment's use of its own employees, contractors, temporary staff, or leased workers for select business expenses. These data will help the Census Bureau, businesses, and policymakers understand the relationship between an important organizational decision—what activities are the responsibility of the business's own employees and what activities are contracted to other businesses—and business outcomes such as growth and survivorship when linked with the ASM, Economic Census, and Business Register.

For the 2021 MOPS, the Data and Decision Making module has been modified to remove some existing components and expanded to include questions focused on the frontier uses of data to inform artificial intelligence. As such, the module has been re-titled “Data, Decision Making, and Artificial Intelligence.” Understanding the characteristics of businesses that rely upon data in making decisions helps businesses and policymakers understand the role that data collection and analysis play in business outcomes. By producing statistics on the use of frontier technologies for decision making, the Census Bureau can help businesses and policymakers identify potential use cases for these technologies. In addition, the Census Bureau can better plan future collections and reduce respondent burden if it understands how businesses retain and analyze their own data.

Additionally, the 2021 MOPS includes three questions added to the background characteristics module inquiring about an establishment's use of an external Certified Public Accountant. Use of an external Certified Public Accountant affects how businesses retain and review their own data, which can have implications for management practices and can help the Census Bureau plan future collections and reduce respondent burden.

The 2021 MOPS simplified questions on the location of decision-making in multi-location firms in the organization module by combining them into a single table and removing write-in responses, removed some forecasting questions in the uncertainty module, removed two background characteristic questions, and removed all questions regarding a five-year recall period.

Affected Public: Business or other for-profit organizations.

Frequency: One time.

Respondent's Obligation: Mandatory.

Legal Authority: Title 13 U/S.C. Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0963.

Sheleen Dumas,
Department PRA Clearance Officer, Office of the Chief Information Officer, Commerce Department.

[FR Doc. 2021-25577 Filed 11-22-21; 8:45 am]

BILLING CODE 3510-07-P